DEPARTMENT OF COMMERCE

National Oceanic and Atmospheric Administration

RIN 0648-XA158

Gulf of Mexico Fishery Management Council (Council); Public Meetings; Correction

AGENCY: National Marine Fisheries Service (NMFS), National Oceanic and Atmospheric Administration (NOAA), Commerce.

ACTION: Notice of addendum to a meeting notice.

SUMMARY: The Gulf of Mexico Fishery Management Council will convene public meetings. Additional items have been added to the agenda. See SUPPLEMENTARY INFORMATION.

DATES: The meetings will be held February 7-10, 2011.

ADDRESSES: The meetings will be held at the Courtyard Marriott, 1600 E. Beach Blvd, Gulfport, MS 39501.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION: The original notice published in the Federal Register on January 20, 2011 (76 FR 3616). The agenda for the days that the additional items occur is being republished. All other information that was previously published remains unchanged.

Council

Wednesday, February 9, 2011

4 p.m.-6 p.m.—The Council will receive public testimony on exempted fishing permits (EFPs),if any; Final Action on the Greater Amberjack Regulatory amendment; and hold an open public comment period regarding any fishery issue of concern. People wishing to speak before the Council should complete a public comment card prior to the comment period.

Committees

Tuesday, February 8, 2010

10 a.m.-12 noon & 1:30 p.m.-5:30 p.m.—The Reef Fish Management Committee will receive an update of the 2010 red snapper landings and status of the regulatory amendment; review the mutton snapper and goliath grouper benchmark assessments; review the re-run of the gag update assessment; review the goliath grouper assessment; discuss the impact of observed discard estimates on the red grouper stock assessment; review an options paper for a red snapper regulatory amendment to adjust the fall closing date and allow for weekend openings; receive a report on the Limited Access Privilege Program Advisory Panel meeting; discuss the individual fishing quota finance program; review the Greater Amberjack Regulatory Amendment for final action; and review an individual fishing quota discussion paper.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Trish Kennedy at the Council (see ADDRESSES) at least 5 working days prior to the meeting.

Dated: January 20, 2011.
Tracey L. Thompson,
Acting Director, Office of Sustainable Fisheries, National Marine Fisheries Service.

[FR Doc. 2011-1559 Filed 1-25-11; 8:45 am]

BILLING CODE 3510-22-P